FEDERAL HOUSING FINANCE AGENCY

[No. 2014-N-04]

Federal Home Loan Bank Members Selected for Community Support Review 2014-2015 Review Cycle—1st Round

AGENCY: Federal Housing Finance Agency.

ACTION: Notice.

SUMMARY: The Federal Housing Finance Agency (FHFA) is announcing the Federal Home Loan Bank (Bank) members it has selected for the 2014-2015 Review Cycle—1st Round under the FHFA's community support requirements regulation. This notice also prescribes the deadline by which Bank members selected for review must submit Community Support Statements to FHFA.

DATES: Bank members selected for the review cycle under the FHFA's community support requirements regulation must submit completed Community Support Statements to FHFA on or before June 9, 2014.

ADDRESSES: Bank members selected for the 2014-2015 Review Cycle—1st Round under the FHFA's community support requirements regulation must submit completed Community Support Statements to FHFA either by electronic mail at hmgcommunitysupportprogram@fhfa.gov or by hard-copy mail at the Federal Housing Finance Agency, Ninth Floor, Division of Housing Mission and Goals (DHMG), 400 Seventh Street SW., Washington, DC 20024.

FOR FURTHER INFORMATION CONTACT: Melissa Allen, Senior Program Analyst, 202-658-9266 or Melissa.Allen@fhfa.gov, or Rona Richardson, Administrative Office Manager, 202-649-3224 or Rona.Richardson@fhfa.gov, Office of Housing and Regulatory Policy, Division of Housing Mission and Goals, Federal Housing Finance Agency, Ninth Floor, 400 Seventh Street SW., Washington, DC 20024.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 1290. The regulation includes standards and criteria for the two statutory factors—CRA performance and record of lending to first-time homebuyers. 12 CFR 1290.3. Only members subject to the CRA must meet the CRA standard. 12 CFR 1290.3(b). All members, including those not subject to CRA, must meet the first-time homebuyer standard. 12 CFR 1290.3(c).

Under the rule, FHFA selects approximately one-eighth of the members in each Bank district for community support review each calendar quarter. 12 CFR 1290.2(a). FHFA will not review an institution's community support performance until it has been a Bank member for at least one year. Selection for review is not, nor should it be construed as, any indication of either the financial condition or the community support performance of the member.

Each Bank member selected for review must complete a Community Support Statement and submit it to FHFA by the June 9, 2014 deadline prescribed in this notice. 12 CFR 1290.2(b)(1)(ii) and (c). On or before May 7, 2014, each Bank will notify the members in its district that have been selected for the 2014-2015 Review Cycle—1st Round community support review that they must complete and submit to FHFA by the deadline a Community Support Statement. 12 CFR 1290.2(b)(2)(i). The member's Bank will provide a blank Community Support Statement Form (OMB No. 2590-0005), which also is available on the FHFA's Web site: http://www.fhfa.gov/webfiles/2924/FHFAForm060.pdf. Upon request, the member's Bank also will provide assistance in completing the Community Support Statement.

FHFA has selected the following members for the 2014-2015 Review Cycle—1st Round community support review:

Federal Home Loan Bank of Boston—District 1
Litchfield Bancorp | Litchfield | Connecticut.
Milford Bank | Milford | Connecticut.
PrimeBank | Orange | Connecticut.
National Iron Bank | Salisbury | Connecticut.
First National Bank of Suffield | Suffield | Connecticut.
Mechanics Savings Bank | Auburn | Maine.
Franklin-Somerset Federal Credit Union | Farmington | Maine.
Oxford Federal Credit Union | Mexico | Maine.
Beverly Co-Operative | Beverly | Massachusetts.
Chelsea Bank | Chelsea | Massachusetts.
East Boston Savings Bank | East Boston | Massachusetts.
Fall River Five Cent Savings Bank | Fall River | Massachusetts.
First National Bank of Ipswich | Ipswich | Massachusetts.
Century Bank & Trust Company | Medford | Massachusetts.
Needham Bank | Needham | Massachusetts.
MountainOne Bank | North Adams | Massachusetts.
North Brookfield Savings Bank | North Brookfield | Massachusetts.
Bank of Easton | North Easton | Massachusetts.
Cape Cod Five Cents Savings Bank | Harwich Port | Massachusetts.
Rockland Trust Company | Rockland | Massachusetts.
Unibank for Savings | Whitinsville | Massachusetts.
St. Mary's Bank | Manchester | New Hampshire.
Community Guaranty Savings Bank | Plymouth | New Hampshire.
Bank Rhode Island | Providence | Rhode Island.
Union Federal Savings Bank | North Providence | Rhode Island.
Federal Home Loan Bank of New York—District 2
Provident Bank | Jersey City | New Jersey.
Atlantic Stewardship Bank | Midland Park | New Jersey.
City National Bank of New Jersey | Newark | New Jersey.
First Niagara Bank, National Association | Buffalo | New York.
Chemung Canal Trust Company | Elmira | New York.
National Bank of New York City | Flushing | New York.
Rondout Savings Bank | Kingston | New York.
State Bank of Long Island | New Hyde Park | New York.
Eastbank, National Association | New York City | New York.
Rhinebeck Savings Bank | Rhinebeck | New York.
Tioga State Bank | Spencer | New York.
New York Community Bank | Westbury | New York.
Banco Santander Puerto Rico | Hato Rey | Puerto Rico.
Federal Home Loan Bank of Pittsburgh—District 3
County Bank | Rehoboth Beach | Delaware.
Chelten Hills Savings Bank | Abington | Pennsylvania.
The Kishacoquillas Valley National Bank | Belleville | Pennsylvania.
The Farmers National Bank of Emlenton | Emlenton | Pennsylvania.
Harleysville Savings Bank | Harleysville | Pennsylvania.
First National Bank of Pennsylvania | Hermitage | Pennsylvania.
Wayne Bank | Honesdale | Pennsylvania.
AmeriServ Financial Bank | Johnstown | Pennsylvania.
Luzerne Bank | Luzerne | Pennsylvania.
Marion Center Bank | Marion Center | Pennsylvania.
West View Savings Bank | Pittsburgh | Pennsylvania.
The First National Bank of Port Allegany | Port Allegany | Pennsylvania.
Community First Bank | Reynoldsville | Pennsylvania.
Farmers Building and Savings Bank | Rochester | Pennsylvania.
Mountain Valley Bank, NA | Elkins | West Virginia.
The Harrison County Bank | Lost Creek | West Virginia.
Union Bank, Inc | Middlebourne | West Virginia.
Grant County Bank | Petersburg | West Virginia.
Federal Home Loan Bank of Atlanta—District 4
Peoples Bank of Greensboro | Greensboro | Alabama.
Cheaha Bank | Oxford | Alabama.
The Commercial Bank of Ozark | Ozark | Alabama.
Metro Bank | Pell City | Alabama.
The Farmers & Merchants Bank | Waterloo | Alabama.
The Citizens Bank of Winfield | Winfield | Alabama.
Drummond Community Bank | Chiefland | Florida.
First National Bank of Pasco | Dade City | Florida.
BankFirst | Eustis | Florida.
Community Bank of Florida | Homestead | Florida.
Fidelity Bank of Florida, N.A. | Merritt Island | Florida.
Coconut Grove Bank | Miami | Florida.
Peoples National Bank | Niceville | Florida.
Prosperity Bank | St. Augustine | Florida.
First National Bank of Wauchula | Wauchula | Florida.
Alma Exchange Bank and Trust | Alma | Georgia.
First National Bank South | Alma | Georgia.
Citizens Bank of Americus | Americus | Georgia.
Rabun County Bank | Clayton | Georgia.
Bank of Dudley | Dudley | Georgia.
First National Bank of Griffin | Griffin | Georgia.
Queensborough National Bank & Trust Company | Louisville | Georgia.
Bank of Madison | Madison | Georgia.
Exchange Bank | Milledgeville | Georgia.
Ameris Bank | Moultrie | Georgia.
Fidelity Bank | Norcross | Georgia.
Northwest Georgia Bank | Ringgold | Georgia.
West Central Georgia Bank | Thomaston | Georgia.
Frederick County Bank | Frederick | Maryland.
Glen Burnie Mutual Savings Bank | Glen Burnie | Maryland.
Hebron Savings Bank | Hebron | Maryland.
First Financial of Maryland Federal Credit Union | Lutherville | Maryland.
Regal Bank & Trust | Owings Mills | Maryland.
The Queenstown Bank of Maryland | Queenstown | Maryland.
Yadkin Valley Bank and Trust Company | Elkin | North Carolina.
The Fidelity Bank | Fuquay-varina | North Carolina.
Sound Banking Company | Morehead City | North Carolina.
Morganton FS & LA | Morganton | North Carolina.
Peoples Bank | Newton | North Carolina.
First Carolina State Bank | Rocky Mount | North Carolina.
Wake Forest FS & LA | Wake Forest | North Carolina.
Horry County State Bank | Loris | South Carolina.
Crescent Bank | Myrtle Beach | South Carolina.
Virginia National Bank | Charlottesville | Virginia.
Bank of Hampton Roads | Chesapeake | Virginia.
Old Point National Bank of Phoebus | Hampton | Virginia.
Grayson National Bank | Independence | Virginia.
Chesapeake Bank | Kilmarnock | Virginia.
Village Bank | Midlothian | Virginia.
BayPort Credit Union | Newport News | Virginia.
Central Virginia Bank | Powhatan | Virginia.
Federal Home Loan Bank of Cincinnati—District 5
Citizens Deposit Bank of Arlington, Inc | Arlington | Kentucky.
Peoples Bank and Trust Company of Madison Co | Berea | Kentucky.
Deposit Bank of Carlisle | Carlisle | Kentucky.
The Farmers National Bank of Danville | Danville | Kentucky.
Dixon Bank | Dixon | Kentucky.
First Citizens Bank | Elizabethtown | Kentucky.
Fort Knox Federal Credit Union | Fort Knox | Kentucky.
Farmers Bank and Capital Trust | Frankfort | Kentucky.
Franklin Bank and Trust Company | Franklin | Kentucky.
The Bank of Henderson, Inc | Henderson | Kentucky.
Century Bank of Kentucky | Lawrenceburg | Kentucky.
Kentucky Telco Federal Credit Union | Louisville | Kentucky.
King Southern Bank | Louisville | Kentucky.
Jackson County Bank | McKee | Kentucky.
The Farmers Bank of Milton | Milton | Kentucky.
Peoples Bank & Trust | Owenton | Kentucky.
The Springfield State Bank | Springfield | Kentucky.
South Central Bank of Monroe County, Inc | Tompkinsville | Kentucky.
United Southern Bank | Trenton | Kentucky.
Citizens Deposit Bank & Trust | Vanceburg | Kentucky.
The Apple Creek Banking Co | Apple Creek | Ohio.
Sharefax Credit Union, Inc | Batavia | Ohio.
The First National Bank of Bellevue | Bellevue | Ohio.
Monitor Bank | Big Prairie | Ohio.
Cottage Savings Bank | Cincinnati | Ohio.
The Huntington National Bank | Columbus | Ohio.
The Community Bank | Crooksville | Ohio.
Citizens National Bank of Southwestern Ohio | Dayton | Ohio.
Dover-phyla Federal Credit Union | Dover | Ohio.
First National Community Bank | East Liverpool | Ohio.
The Bankers Guarantee Title & Trust Company | Fairlawn | Ohio.
The Peoples Bank Inc | Gambier | Ohio.
The Genoa Banking Company | Genoa | Ohio.
Metamora State Bank | Metamora | Ohio.
Consumers National Bank | Minerva | Ohio.
The Henry County Bank | Napoleon | Ohio.
Home FS & LA of Niles | Niles | Ohio.
Community One Credit Union of Ohio | North Canton | Ohio.
The Osgood State Bank | Osgood | Ohio.
The Ottoville Bank Company | Ottoville | Ohio.
Westfield Bank, FSB | Westfield Center | Ohio.
Bank of Cleveland | Cleveland | Tennessee.
Citizens Tri-County Bank | Dunlap | Tennessee.
Citizens Bank | Elizabethton | Tennessee.
Andrew Johnson Bank | Greeneville | Tennessee.
The Bank of Nashville | Nashville | Tennessee.
Farmers Bank | Parsons | Tennessee.
First National Bank of Pulaski | Pulaski | Tennessee.
First Century Bank | Tazewell | Tennessee.
Federal Home Loan Bank of Indianapolis—District 6
The Bath State Bank | Bath | Indiana.
First Bank of Berne | Berne | Indiana.
The Bippus State Bank | Bippus | Indiana.
The Farmers and Merchants Bank | Boswell | Indiana.
The Farmers State Bank—Brookston | Brookston | Indiana.
The Fountain Trust Company | Covington | Indiana.
DeMotte State Bank | Demotte | Indiana.
The Peoples State Bank—Ellettsville | Ellettsville | Indiana.
Bank of Geneva | Geneva | Indiana.
MainSource Bank | Greensburg | Indiana.
Salin Bank and Trust Company | Indianapolis | Indiana.
The National Bank of Indianapolis | Indianapolis | Indiana.
Kentland Bank | Kentland | Indiana.
Community State Bank | Royal Center | Indiana.
The Morris Plan Company of Terre Haute | Terre Haute | Indiana.
Lake City Bank | Warsaw | Indiana.
Community State Bank | Avila | Indiana.
Alden State Bank | Alden | Michigan.
First National Bank of Michigan | East Lansing | Michigan.
The State Bank—Fenton | Fenton | Michigan.
Dort Federal Credit Union | Flint | Michigan.
First Bank, Upper Michigan | Gladstone | Michigan.
United Bank of Michigan | Grand Rapids | Michigan.
Lansing Automakers Federal Credit Union | Lansing | Michigan.
Farmers State Bank of Munith | Munith | Michigan.
Royal Oak Community Credit Union | Royal Oak | Michigan.
Federal Home Loan Bank of Chicago—District 7
Anchor State Bank | Anchor | Illinois.
Germantown Trust & Savings Bank | Breese | Illinois.
The Bank of Carbondale | Carbondale | Illinois.
Highland Community Bank | Chicago | Illinois.
Home State Bank, N.A. | Crystal Lake | Illinois.
Farmers State Bank of Danforth | Danforth | Illinois.
Durand State Bank | Durand | Illinois.
First Community Bank | Elgin | Illinois.
Standard Bank and Trust Company | Hickory Hills | Illinois.
First Eagle Bank | Chicago | Illinois.
Bank of Calhoun County | Hardin | Illinois.
The First National Bank of Lacon | Lacon | Illinois.
The Farmers Bank of Liberty | Liberty | Illinois.
Banterra Bank | Marion | Illinois.
First Mid-Illinois Bank & Trust, N.A. | Mattoon | Illinois.
First State Bank | Mendota | Illinois.
Citizens State Bank of Milford | Milford | Illinois.
BankORION | Orion | Illinois.
South Side Trust & Savings Bank of Peoria | Peoria | Illinois.
Bank of Pontiac | Pontiac | Illinois.
Princeville State Bank | Princeville | Illinois.
Farmers National Bank | Prophetstown | Illinois.
Marion County Savings Bank | Salem | Illinois.
Bank of Springfield | Springfield | Illinois.
St. Charles Bank and Trust Company | St. Charles | Illinois.
First Community State Bank | Staunton | Illinois.
First National Bank in Taylorville | Taylorville | Illinois.
First National Bank of Waterloo | Waterloo | Illinois.
Williamsville State Bank & Trust | Williamsville | Illinois.
Baraboo National Bank | Baraboo | Wisconsin.
Union Bank of Blair | Blair | Wisconsin.
Great Midwest Bank, S.S.B. | Brookfield | Wisconsin.
Bank North | Crivitz | Wisconsin.
First National Bank of Eagle River | Eagle River | Wisconsin.
Citizens Community Federal | Eau Claire | Wisconsin.
Royal Bank | Elroy | Wisconsin.
Oak Bank | Fitchburg | Wisconsin.
State Bank of Florence | Florence | Wisconsin.
Bank of Galesville | Galesville | Wisconsin.
The First National Bank of Hartford | Hartford | Wisconsin.
Coulee Bank | La Crosse | Wisconsin.
Citizens State Bank of Loyal | Loyal | Wisconsin.
Bank of Luxemburg | Luxemburg | Wisconsin.
First Business Bank | Madison | Wisconsin.
Columbia Savings & Loan Association | Milwaukee | Wisconsin.
Citizens Bank of Mukwonago | Mukwonago | Wisconsin.
First State Bank | New London | Wisconsin.
First Bank Financial Centre | Oconomowoc | Wisconsin.
River Valley Bank | Wausau | Wisconsin.
River Bank | Stoddard | Wisconsin.
Waldo State Bank | Waldo | Wisconsin.
Farmers & Merchants State Bank | Waterloo | Wisconsin.
Waukesha State Bank | Waukesha | Wisconsin.
Marathon Savings Bank | Wausau | Wisconsin.
Chippewa Valley Bank | Winter | Wisconsin.
Woodford State Bank | Woodford | Wisconsin.
Federal Home Loan Bank of Des Moines—District 8
City State Bank | Central City | Iowa.
Iowa State Bank | Des Moines | Iowa.
Peoples Savings Bank | Elma | Iowa.
Lee County Bank & Trust, N.A. | Fort Madison | Iowa.
Grinnell State Bank | Grinnell | Iowa.
Security State Bank | Independence | Iowa.
Community First Bank | Keosauqua | Iowa.
Pleasantville State Bank | Pleasantville | Iowa.
Northeast Security Bank | Sumner | Iowa.
Farmers & Merchants Savings Bank | Waukon | Iowa.
Earlham Savings Bank | West Des Moines | Iowa.
Liberty Bank, FSB | West Des Moines | Iowa.
Midwest Heritage Bank, F.S.B. | West Des Moines | Iowa.
First Trust and Savings Bank | Wheatland | Iowa.
North American State Bank | Belgrade | Minnesota.
The First National Bank Bemidji | Bemidji | Minnesota.
Bremer Bank, National Association | Brainerd | Minnesota.
First Security Bank—Canby | Canby | Minnesota.
Republic Bank, Inc | Duluth | Minnesota.
Bremer Bank, National Association | International Falls | Minnesota.
Security State Bank of Lewiston | Lewiston | Minnesota.
Pine Country Bank | Little Falls | Minnesota.
Minnwest Bank Luverne | Luverne | Minnesota.
Security State Bank of Marine | Marine On St. Croix | Minnesota.
First Minnetonka City Bank | Minnetonka | Minnesota.
Minnwest Bank Central | Montevideo | Minnesota.
Lake Region Bank | New London | Minnesota.
United Community Bank | Perham | Minnesota.
Farmers & Merchants State Bank of Pierz | Pierz | Minnesota.
Pine Island Bank | Pine Island | Minnesota.
First Bank & Trust, National Association | Pipestone | Minnesota.
State Bank of Richmond | Richmond | Minnesota.
Minnesota First Credit and Savings | Rochester | Minnesota.
Liberty Savings Bank, FSB | Saint Cloud | Minnesota.
Capital Bank | Saint Paul | Minnesota.
Beacon Bank | Shorewood | Minnesota.
Bremer Bank, National Association | South St. Paul | Minnesota.
Farmers & Merchants State Bank of Springfield | Springfield | Minnesota.
Central Bank | Stillwater | Minnesota.
Northern State Bank | Thief River Falls | Minnesota.
Community Bank Mankato | Vernon Center | Minnesota.
Paragon Bank | Wells | Minnesota.
State Bank of Wheaton | Wheaton | Minnesota.
Bremer Bank, National Association | Willmar | Minnesota.
Winona National Bank | Winona | Minnesota.
Bank of Advance | Advance | Missouri.
Carroll County Savings & Loan Association | Carrollton | Missouri.
Enterprise Bank and Trust | Clayton | Missouri.
First Midwest Bank of Dexter | Dexter | Missouri.
F & C Bank | Holden | Missouri.
Midwest Independent Bank | Jefferson City | Missouri.
Alliant Bank | Madison | Missouri.
Citizens National Bank of Greater St. Louis | Maplewood | Missouri.
Martinsburg Bank and Trust | Mexico | Missouri.
Central Bank of Lake of the Ozarks | Osage Beach | Missouri.
First Community Bank, Missouri | Poplar Bluff | Missouri.
First Midwest Bank of Poplar Bluff | Poplar Bluff | Missouri.
Preferred Bank | Rothville | Missouri.
Anheuser-Busch Employees' Credit Union | St. Louis | Missouri.
Jefferson Bank & Trust Co | St. Louis | Missouri.
Neighbors Credit Union | St. Louis | Missouri.
First Community National Bank | Steelville | Missouri.
Bank of Sullivan | Sullivan | Missouri.
Bank of Crocker | Waynesville | Missouri.
West Plains Bank and Trust Company | West Plains | Missouri.
Bank of Weston | Weston | Missouri.
Bank of North Dakota | Bismarck | North Dakota.
American Bank Center | Dickinson | North Dakota.
Choice Financial Group | Grafton | North Dakota.
Security First Bank of North Dakota | New Salem | North Dakota.
American State Bank & Trust Company of Williston | Williston | North Dakota.
First National Bank | Fort Pierre | South Dakota.
The First National Bank in Sioux Falls | Sioux Falls | South Dakota
Federal Home Loan Bank of Dallas—District 9
First National Bank of North Arkansas | Berryville | Arkansas.
FNB of Izard County | Calico Rock | Arkansas.
Arkansas County Bank | De Witt | Arkansas.
Bank of England | England | Arkansas.
First National Bank in Green Forest | Green Forest | Arkansas.
Helena National Bank | Helena | Arkansas.
Bank of Little Rock | Little Rock | Arkansas.
First Community Bank of Eastern Arkansas | Marion | Arkansas.
Commercial Bank and Trust | Monticello | Arkansas.
Integrity First Bank, N.A. | Mountain Home | Arkansas.
Bank of Prescott | Prescott | Arkansas.
Riverside Bank | Sparkman | Arkansas.
First National Bank, Bienville Parish | Arcadia | Louisiana.
Citizens National Bank of Bossier City | Bossier City | Louisiana.
Guaranty Bank & Trust Company of Delhi | Delhi | Louisiana.
Catahoula-LaSalle Bank | Jonesville | Louisiana.
Progressive National Bank of Desoto Parish | Mansfield | Louisiana.
Bank of Maringuoin | Maringuoin | Louisiana.
Louisiana Corporate Credit Union | Metairie | Louisiana.
Guaranty Bank & Trust Co | New Roads | Louisiana.
Tensas State Bank | Newellton | Louisiana.
Patterson State Bank | Patterson | Louisiana.
Iberville Bank | Plaquemine | Louisiana.
Rayne State Bank & Trust Co | Rayne | Louisiana.
Teche Bank & Trust Co | St. Martinville | Louisiana.
Bank of Sunset & Trust Co | Sunset | Louisiana.
Washington State Bank | Washington | Louisiana.
Centric Federal Credit Union | West Monroe | Louisiana.
Community Bank Coast | Biloxi | Mississippi.
Citizens Bank | Columbia | Mississippi.
Jefferson Bank | Fayette | Mississippi.
First Commercial Bank | Jackson | Mississippi.
Bank of Kilmichael | Kilmichael | Mississippi.
Peoples Bank | Mendenhall | Mississippi.
Bank of Morton | Morton | Mississippi.
Merchants & Planters Bank | Raymond | Mississippi.
Richton Bank & Trust Company | Richton | Mississippi.
First State Bank | Waynesboro | Mississippi.
Main Bank | Albuquerque | New Mexico.
Sunrise Bank of Albuquerque | Albuquerque | New Mexico.
Farmers & Stockmens Bank of Clayton | Clayton | New Mexico.
Valley National Bank | Espanola | New Mexico.
Lea County State Bank | Hobbs | New Mexico.
Western Heritage Bank | Las Cruces | New Mexico.
Bank of the Southwest | Roswell | New Mexico.
City Bank New Mexico | Ruidoso | New Mexico.
Ballinger National Bank | Ballinger | Texas.
Bloomburg State Bank | Bloomburg | Texas.
First Bank & Trust—Childress | Childress | Texas.
Southwest Bank | Fort Worth | Texas.
HomeTown Bank, NA | Galveston | Texas.
Gruver State Bank | Gruver | Texas.
Hull State Bank | Hull | Texas.
Industry State Bank | Industry | Texas.
Synergy Bank, S.S.B. | McKinney | Texas.
Red River Employees | Texarkana | Texas.
Citizens National Bank of Texas | Waxahachie | Texas.
Vintage Bank | Waxahachie | Texas.
American Bank of Commerce | Wolfforth | Texas.
Citizens State Bank | Woodville | Texas.
Federal Home Loan Bank of Topeka—District 10
First Southwest Bank | Alamosa | Colorado.
Fitzsimons Federal Credit Union | Aurora | Colorado.
Boulder Municipal Employees Federal Credit Union | Boulder | Colorado.
Boulder Valley Credit Union | Boulder | Colorado.
Flatirons Bank | Boulder | Colorado.
5Star Bank | Colorado Springs | Colorado.
Bank of Denver | Denver | Colorado.
First Western Trust Bank | Denver | Colorado.
Westerra Credit Union | Denver | Colorado.
Trust Company of America | Centennial | Colorado.
FMS Bank | Fort Morgan | Colorado.
Grand Valley Bank | Heber | Utah.
Bellco First Federal Credit Union | Greenwood Village | Colorado.
First State Bank of Colorado | Hotchkiss | Colorado.
The Colorado B&T of La Junta | La Junta | Colorado.
FirstBank—Lakewood, CO | Lakewood | Colorado.
Citizens Bank of Pagosa Springs—Pagosa Springs | Pagosa Spring | Colorado.
North Valley Bank | Thornton | Colorado.
First National Bank in Trinidad | Trinidad | Colorado.
Mountain Valley Bank | Walden | Colorado.
First Pioneer National Bank | Wray | Colorado.
Wray State Bank | Wray | Colorado.
Labette Bank | Altamont | Kansas.
Equity Bank | Andover | Kansas.
The Union State Bank—Arkansas City, KS | Arkansas City | Kansas.
The Baxter State Bank—Baxter Springs, KS | Baxter Spring | Kansas.
The First National Bank of Beloit | Beloit | Kansas.
First National Bank of Kansas | Burlington | Kansas.
Farmers & Merchants State Bank—Cawker City | Cawker City | Kansas.
First Heritage Bank | Centralia | Kansas.
Union State Bank of Clay Center | Clay Center | Kansas.
Swedish-American State Bank | Courtland | Kansas.
The State Bank of Delphos—Delphos, KS | Delphos | Kansas.
Verus Bank | Derby | Kansas.
The Lyons County State Bank | Emporia | Kansas.
First National Bank in Frankfort | Frankfort | Kansas.
Golden Plains Credit Union | Garden City | Kansas.
The Citizens State Bank—Gridley, KS | Gridley | Kansas.
First National Bank of Harveyville | Harveyville | Kansas.
Citizens State Bank and Trust Co.—Hiawatha | Hiawatha | Kansas.
First Kansas Bank | Hoisington | Kansas.
The First National Bank of Hope | Hope | Kansas.
Citizens State Bank | Hugoton | Kansas.
First National Bank of Hutchinson | Hutchinson | Kansas.
The First National Bank & Trust Company | Junction City | Kansas.
Brotherhood Bank & Trust Co.—Kansas City | Kansas City | Kansas.
Peoples Bank | Lawrence | Kansas.
The Community Bank | Liberal | Kansas.
The First National Bank of Louisburg | Louisburg | Kansas.
The Lyndon State Bank | Lyndon | Kansas.
Community First National Bank | Manhattan | Kansas.
Landmark National Bank | Manhattan | Kansas.
Peoples State Bank | McDonald | Kansas.
Farmers Alliance Mutual Insurance Company | McPherson | Kansas.
Peoples Bank & Trust Co.—McPherson, KS | McPherson | Kansas.
First Neodesha Bank—Neodesha, KS | Neodesha | Kansas.
The Kansas State Bank | Ottawa | Kansas.
Cornerstone Bank | Overland Park | Kansas.
Commercial Bank | Parsons | Kansas.
First National Bank And Trust | Phillipsburg | Kansas.
Midwest Community Bank | Plainville | Kansas.
The Exchange State Bank | St. Paul | Kansas.
Towanda State Bank—Towanda, KS | Towanda | Kansas.
Grant County Bank—Ulysses, KS | Ulysses | Kansas.
The Union State Bank—Uniontown, KS | Uniontown | Kansas.
Trego-Wakeeney State Bank | Wakeeney | Kansas.
Security State Bank—Wellington, KS | Wellington | Kansas.
Wilson State Bank | Wilson | Kansas.
CornerBank, National Association | Winfield | Kansas.
Battle Creek State Bank—Battle Creek, NE | Battle Creek | Nebraska.
Columbus Bank and Trust Company—Columbus, NE | Columbus | Nebraska.
The Fremont National Bank & Trust | Fremont | Nebraska.
Fullerton National Bank | Fullerton | Nebraska.
Thayer County Bank—Hebron, NE | Hebron | Nebraska.
Union Bank and Trust Company—Lincoln, NE | Lincoln | Nebraska.
McCook National Bank | McCook | Nebraska.
Adams Bank & Trust—Ogallala, NE | Ogallala | Nebraska.
First Westroads Bank, Inc | Omaha | Nebraska.
Metro Health Services Federal Credit Union | Omaha | Nebraska.
Mutual First Federal Credit Union | Omaha | Nebraska.
First National Bank in Ord | Ord | Nebraska.
Stanton State Bank | Stanton | Nebraska.
First United Bank & Trust Company—Durant, OK | Durant | Oklahoma.
Central National Bank & Trust Company of Enid | Enid | Oklahoma.
Farmers & Merchants National Bank of Fairview | Fairview | Oklahoma.
Security First National Bank | Hugo | Oklahoma.
First Fidelity Bank, N.A. | Oklahoma City | Oklahoma.
The Pauls Valley National Bank | Pauls Valley | Oklahoma.
First State Bank in Temple—Temple, OK | Temple | Oklahoma.
The First Farmers National Bank of Waurika | Waurika | Oklahoma.
Federal Home Loan Bank of San Francisco—District 11
Arizona Central Credit Union | Phoenix | Arizona.
Altier Credit Union | Tempe | Arizona.
First Mountain Bank | Big Bear Lake | California.
San Diego Private Bank | Coronado | California.
Premier Valley Bank | Fresno | California.
Eagle Community Credit Union | Lake Forest | California.
City National Bank | Los Angeles | California.
Golden Pacific Bank, N.A. | Marysville | California.
First Technology Federal Credit Union | Palo Alto | California.
OneWest Bank, National Association | Pasadena | California.
Cornerstone Community Bank | Red Bluff | California.
Mechanics Bank | Richmond | California.
AltaOne Federal Credit Union | Ridgecrest | California.
Altura Credit Union | Riverside | California.
The Bank of Hemet | Riverside | California.
Bank of Sacramento | Sacramento | California.
America California Bank | San Francisco | California.
Trans Pacific National Bank | San Francisco | California.
Montecito Bank & Trust | Santa Barbara | California.
Santa Clara Valley Bank, N.A. | Santa Paula | California.
Community Bank of San Joaquin | Stockton | California.
Bank of The West | Walnut Creek | California.
Nevada State Bank | Las Vegas | Nevada.
Federal Home Loan Bank of Seattle—District 12
Bank of Hawaii | Honolulu | Hawaii.
D. L. Evans Bank | Burley | Idaho.
bankcda | Coeur D'alene | Idaho.
Citizens Bank & Trust Company | Big Timber | Montana.
First Interstate Bank | Billings | Montana.
Bank of Bridger, N.A. | Bridger | Montana.
Teton Banks | Choteau | Montana.
First Security Bank of Deer Lodge | Deer Lodge | Montana.
First Citizens Bank of Polson | Polson | Montana.
Lake County Bank | St. Ignatius | Montana.
Ruby Valley National Bank | Twin Bridges | Montana.
Bank of the Rockies, N.A. | White Sulphur | Montana.
Whitefish Credit Union | Whitefish | Montana.
O.S.U. Federal Credit Union | Corvallis | Oregon.
MBank | Gresham | Oregon.
Community Bank | Joseph | Oregon.
Cache Valley Bank | Logan | Utah.
iQ Credit Union | Camas | Washington.
Seattle Bank | Seattle | Washington.
Inland Northwest Bank | Spokane | Washington.
Sound Credit Union | Tacoma | Washington.

II. Public Comments

To encourage the submission of public comments on the community support performance of Bank members, on or before May 7, 2014, each Bank will notify its Advisory Council and nonprofit housing developers, community groups, and other interested parties in its district of the members selected for community support review in the 2014-2015 Review Cycle—1st Round. 12 CFR 1290.2(b)(2)(ii). In reviewing a member for community support compliance, FHFA will consider any public comments it has received concerning the member. 12 CFR 1290.2(d). To ensure consideration by FHFA, comments concerning the community support performance of members selected for the 2014-2015 Review Cycle—1st Round must be delivered to FHFA, either by hard-copy mail at the Federal Housing Finance Agency, Ninth Floor, Housing Mission and Goals (DHMG), 400 Seventh Street SW., Washington, DC 20024, or by electronic mail to hmgcommunitysupportprogram@fhfa.gov on or before the June 9, 2014 deadline for submission of Community Support Statements.

Dated: April 17, 2014.
Melvin L. Watt,
Director, Federal Housing Finance Agency.

[FR Doc. 2014-09232 Filed 4-22-14; 8:45 am]

BILLING CODE 8070-01-P